ENVIRONMENTAL PROTECTION AGENCY

[IN166-1; FRL-8021-3]

Approval of Section 112(l) Delegation of Maximum Achievable Control Technology Standards; Indiana

AGENCY: Environmental Protection Agency (EPA).

ACTION: Notice.

SUMMARY: EPA is notifying the public that delegation of the authority to implement and enforce the following maximum achievable control technology (MACT) standards was approved in a letter from EPA to IDEM dated November 30, 2005: Chemical Recovery Combustion Sources at Kraft, Soda Sulfite, and Stand-alone Semichemical Pulp Mills; Petroleum Refineries: Catalytic Cracking Units, Catalytic Reforming Units, and Sulfur Recovery Units; Manufacturing of Nutritional Yeast; Wet-Formed Fiberglass Mat Production; Leather Finishing Operations; Cellulose Products Manufacturing; Rubber Tire Manufacturing; Pharmaceuticals Production; Amino and Phenolic Resins; Polyether Polyols Production; Solvent Extraction for Vegetable Oil Production; Semiconductor Manufacturing; Refractory Products Manufacturing; Surface Coating of Large Appliances; Surface Coating of Metal Coil; Paper and Other Web Coating; Flexible Polyurethane Foam Fabrication Operations; Municipal Solid Waste Landfills; Friction Material Manufacturing Facilities; Polyvinyl Chloride and Copolymers Production; Secondary Aluminum; Asphalt Processing and Asphalt Roofing; Brick and Structural Clay Products; Clay Ceramics Manufacturing; Coke Ovens: Pushing, Quenching, and Battery Stacks; Engine Test Cells/Stands; Hydrochloric Acid Production; Printing, Coating and Dyeing Fabrics and other Textiles; Surface Coating of Metal Furniture; Surface Coating of Wood Building Products; Reciprocating Internal Combustion Engines; Organic Liquid Distribution (Non-Gasoline); Miscellaneous Organic Chemical Manufacturing; Surface Coating of Automobiles; Surface Coating of Metal Cans; Site Remediation; Miscellaneous Coating Manufacturing; Stationary Combustion Turbines; Lime Manufacturing Plants; Iron and Steel Foundries; and Integrated Iron and Steel Manufacturing; Mercury Cell Chlor-Alkali Plants.

ADDRESSES: Copies of the State's submittal and other supporting information used in developing the approval are available for inspection during normal business hours at the following location: EPA Region 5, 77 West Jackson Boulevard, AR-18J, Chicago, Illinois 60604. Please contact Sam Portanova at (312) 886-3189 to arrange a time if inspection of the submittal is desired.

FOR FURTHER INFORMATION CONTACT: Sam Portanova, AR-18J, 77 West Jackson Boulevard, Chicago, Illinois 60604, (312) 886-3189, portanova.sam@epa.gov.

SUPPLEMENTARY INFORMATION:

I. What action is EPA taking today?

The purpose of this notice is to announce that EPA approved a request for delegation of the MACT standards for Chemical Recovery Combustion Sources at Kraft, Soda Sulfite, and Stand-alone Semichemical Pulp Mills; Petroleum Refineries: Catalytic Cracking Units, Catalytic Reforming Units, and Sulfur Recovery Units; Manufacturing of Nutritional Yeast; Wet-Formed Fiberglass Mat Production; Leather Finishing Operations; Cellulose Products Manufacturing; Rubber Tire Manufacturing; Pharmaceuticals Production; Amino and Phenolic Resins; Polyether Polyols Production; Solvent Extraction for Vegetable Oil Production; Semiconductor Manufacturing; Refractory Products Manufacturing; Surface Coating of Large Appliances; Surface Coating of Metal Coil; Paper and Other Web Coating; Flexible Polyurethane Foam Fabrication Operations; Municipal Solid Waste Landfills; Friction Material Manufacturing Facilities; Polyvinyl Chloride and Copolymers Production; Secondary Aluminum; Asphalt Processing and Asphalt Roofing; Brick and Structural Clay Products; Clay Ceramics Manufacturing; Coke Ovens: Pushing, Quenching, and Battery Stacks; Engine Test Cells/Stands; Hydrochloric Acid Production; Printing, Coating and Dyeing Fabrics and other Textiles; Surface Coating of Metal Furniture; Surface Coating of Wood Building Products; Reciprocating Internal Combustion Engines; Organic Liquid Distribution (Non-Gasoline); Miscellaneous Organic Chemical Manufacturing; Surface Coating of Automobiles; Surface Coating of Metal Cans; Site Remediation; Miscellaneous Coating Manufacturing; Stationary Combustion Turbines; Lime Manufacturing Plants; Iron and Steel Foundries; and Integrated Iron and Steel Manufacturing; Mercury Cell Chlor-Alkali Plants (i.e., 40 CFR part 63, subparts: MM, UUU, CCCC, HHHH, TTTT, UUUU, XXXX, GGG, OOO, PPP, GGGG, BBBBB, SSSSS, NNNN, SSSS, JJJJ, MMMMM, AAAA, QQQQQ, J, RRR, LLLLL, JJJJJ, KKKKK, CCCCC, PPPPP, NNNNN, OOOO, RRRR, QQQQ, ZZZZ, EEEE, FFFF, IIII, KKKK, GGGGG, HHHHH, YYYY, AAAAA, EEEEE, FFFFF, and IIIII respectively). EPA also delegated the applicable Category I authorities for these standards and all previously delegated standards under the general provisions as set forth in 40 CFR 63.91(g) pursuant to section 112(l) of the Clean Air Act (CAA). The State's mechanism of delegation involves State rule adoption of all existing and future section 112 standards unchanged from the Federal standards. The actual delegation of authority of individual standards was implemented by a letter dated November 30, 2005 from EPA to the Indiana Department of Environmental Management (IDEM).

All notifications, reports and other correspondence required under section 112 standards should be sent to the State of Indiana rather than to the EPA, Region 5, in Chicago. Affected sources should send this information to: Indiana Department of Environmental Management, Office of Air Management, 100 North Senate Avenue, P.O. Box 6015, Indianapolis, Indiana 46206-6015.

Pursuant to Section 112(l)(7) of the CAA, nothing in this delegation prohibits EPA from enforcing any applicable emission standard or requirement.

II. EPA approved the delegation under what authority?

On November 14, 1995, EPA approved Indiana's program of delegation for part 70 sources (Federal Register (60 FR 57118)). On July 8, 1997, EPA approved Indiana's program of delegation for non-part 70 sources (Federal Register (62 FR 36460)). The approved program of delegation met the criteria for approval for straight delegation found in 40 CFR 63.91(d), specifically an approved Title V program. The approved program of delegation can be used to delegate MACT standards unchanged from the federal standards to Indiana since Indiana has satisfied the Section 63.91(d) up-front approval requirements and it continues to maintain an approved Title V program.

III. Which standards has IDEM submitted to EPA for approval under Indiana's air toxics program delegation mechanism?

On February 14, 2005 and September 19, 2005, IDEM requested delegation of implementation and enforcement authority of the MACT standards for Chemical Recovery Combustion Sources at Kraft, Soda Sulfite, and Stand-alone Semichemical Pulp Mills; Petroleum Refineries: Catalytic Cracking Units, Catalytic Reforming Units, and Sulfur Recovery Units; Manufacturing of Nutritional Yeast; Wet-Formed Fiberglass Mat Production; Leather Finishing Operations; Cellulose Products Manufacturing; Rubber Tire Manufacturing; Pharmaceuticals Production; Amino and Phenolic Resins; Polyether Polyols Production; Solvent Extraction for Vegetable Oil Production; Semiconductor Manufacturing; Refractory Products Manufacturing; Surface Coating of Large Appliances; Surface Coating of Metal Coil; Paper and Other Web Coating; Flexible Polyurethane Foam Fabrication Operations; Municipal Solid Waste Landfills; Friction Material Manufacturing Facilities; Polyvinyl Chloride and Copolymers Production; Secondary Aluminum; Asphalt Processing and Asphalt Roofing; Brick and Structural Clay Products; Clay Ceramics Manufacturing; Coke Ovens: Pushing, Quenching, and Battery Stacks; Engine Test Cells/Stands; Hydrochloric Acid Production; Printing, Coating and Dyeing Fabrics and other Textiles; Surface Coating of Metal Furniture; Surface Coating of Wood Building Products; Reciprocating Internal Combustion Engines; Organic Liquid Distribution (Non-Gasoline); Miscellaneous Organic Chemical Manufacturing; Surface Coating of Automobiles; Surface Coating of Metal Cans; Site Remediation; Miscellaneous Coating Manufacturing; Stationary Combustion Turbines; Lime Manufacturing Plants; Iron and Steel Foundries; and Integrated Iron and Steel Manufacturing; Mercury Cell Chlor-Alkali Plants (i.e., 40 CFR part 63, subparts: MM, UUU, CCCC, HHHH, TTTT, UUUU, XXXX, GGG, OOO, PPP, GGGG, BBBBB, SSSSS, NNNN, SSSS, JJJJ, MMMMM, AAAA, QQQQQ, J, RRR, LLLLL, JJJJJ, KKKKK, CCCCC, PPPPP, NNNNN, OOOO, RRRR, QQQQ, ZZZZ, EEEE, FFFF, IIII, KKKK, GGGGG, HHHHH, YYYY, AAAAA, EEEEE, FFFFF, and IIIII respectively). The State of Indiana's rules 326 Indiana Administrative Code (IAC) 20-49, 326 IAC 20-50, 326 IAC 20-51, 326 IAC 20-52, 326 IAC 20-53, 326 IAC 20-54, 326 IAC 20-55, 326 IAC 20-57, 326 IAC 20-58, 326 IAC 20-59, 326 IAC 20-60, 326 IAC 20-61, 326 IAC 20-62, 326 IAC 20-63, 326 IAC 20-64, 326 IAC 20-65, 326 IAC 20-66, 326 IAC 20-67, 326 IAC 20-68, 326 IAC 20-69, 326 IAC 20-70, 326 IAC 20-71, 326 IAC 20-72, 326 IAC 20-73, 326 IAC 20-74, 326 IAC 20-75, 326 IAC 20-76, 326 IAC 20-77, 326 IAC 20-78, 326 IAC 20-79, 326 IAC 20-82, 326 IAC 20-83, 326 IAC 20-84, 326 IAC 20-85, 326 IAC 20-86, 326 IAC 20-87, 326 IAC 20-88, 326 IAC 20-90, 326 IAC 20-91, 326 IAC 20-92, 326 IAC 20-93, and 326 IAC 20-94 incorporate these MACT standards into the State's rules unchanged from the Federal regulations.

Dated: December 29, 2005.
Gary Gulezian,
Acting Regional Administrator, Region 5.

[FR Doc. E6-369 Filed 1-12-06; 8:45 am]

BILLING CODE 6560-50-P